OFFICE OF PERSONNEL MANAGEMENT

Excepted Service

AGENCY: U.S. Office of Personnel Management (OPM).

ACTION: Notice.

SUMMARY: This notice identifies Schedule A, B, and C appointing authorities applicable to a single agency that were established or revoked from April 1, 2016, to April 30, 2016.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

Section 213.3137 General Services Administration

(a) Not to Exceed 203 positions that require unique technical skills needed for the re-designing and re-building of digital interfaces between citizens, businesses, and government as a part of Smarter Information Technology Delivery Initiative. This authority may be used nationwide to make permanent, time-limited and temporary appointments to Digital Services Expert positions (GS-301) directly related to the implementation of the Smarter Information Technology Delivery Initiative at the GS-11 to 15 level. No new appointments may be made under this authority after September 30, 2017.

Schedule B

No Schedule B Authorities to report during April 2016.

Schedule C

The following Schedule C appointing authorities were approved during April 2016.

Agency name | Organization name | Position title | Authorization No. | Effective date
DEPARTMENT OF AGRICULTURE | Office of the Secretary | Senior Advisor | DA160094 | 4/1/2016
| Office of the Chief Information Officer | Senior Advisor | DA160092 | 4/14/2016
| Office of the Under Secretary for Rural Development | Senior Advisor | DA160110 | 4/14/2016
| Rural Housing Service | Senior Advisor | DA160112 | 4/14/2016
| Farm Service Agency | State Executive Director—Wisconsin | DA160111 | 4/15/2016
| Office of the Assistant Secretary for Congressional Relations | Confidential Assistant | DA160113 | 4/29/2016
APPALACHIAN REGIONAL COMMISSION | Appalachian Regional Commission | Special Assistant-Chair | AP160001 | 4/4/2016
DEPARTMENT OF COMMERCE | Office of White House Liaison | Special Assistant | DC160122 | 4/13/2016
| Office of the Under Secretary | Congressional Affairs Specialist | DC160124 | 4/15/2016
|  | Senior Advisor | DC160148 | 4/29/2016
| Office of the Chief Financial Officer and Assistant Secretary for Administration | Senior Advisor and Chief of Staff for Administration | DC160119 | 4/19/2016
| Office of the General Counsel | Senior Counsel | DC160143 | 4/25/2016
| Economics and Statistics Administration | Press Secretary | DC160146 | 4/25/2016
| Advocacy Center | Special Advisor | DC160149 | 4/29/2016
DEPARTMENT OF DEFENSE | Office of the Secretary | Special Assistant | DD160087 | 4/1/2016
|  | Advance Officer | DD160086 | 4/4/2016
| Office of the Assistant Secretary of Defense (Asian and Pacific Security Affairs) | Special Assistant for South and Southeast Asia | DD160088 | 4/1/2016
| Office of the Under Secretary of Defense (Policy) | Special Assistant (Strategy, Plans, and Forces) | DD160092 | 4/8/2016
|  | Special Assistant for Afghanistan, Pakistan, and Central Asia | DD160098 | 4/13/2016
| Office of the Assistant Secretary of Defense (International Security Affairs) | Special Assistant (Middle East Policy) | DD160100 | 4/14/2016
| Office of the Assistant Secretary of Defense (Legislative Affairs) | Special Assistant (Legislative Affairs) | DD160069 | 4/19/2016
DEPARTMENT OF THE AIR FORCE | Office of Assistant Secretary of Air Force, Installations, Environment and Logistics | Special Assistant | DF160018 | 4/19/2016
DEPARTMENT OF EDUCATION | Office for Civil Rights | Special Projects Manager | DB160066 | 4/1/2016
| Office of Communications and Outreach | Managing Writer | DB160067 | 4/14/2016
| Office of the Under Secretary | Policy Advisor | DB160068 | 4/14/2016
|  | Deputy Director, White House Initiative on Educational Excellence for Hispanics | DB160074 | 4/26/2016
|  | Special Assistant | DB160078 | 4/29/2016
| Office of the General Counsel | Senior Counsel | DB160069 | 4/19/2016
|  | Associate General Counsel | DB160080 | 4/28/2016
| Office of Elementary and Secondary Education | Director of Strategic Initiatives Chief of Staff | DB160070 DB160079 | 4/19/2016 4/28/2016
| Office of Planning, Evaluation and Policy Development | Senior Policy Advisor (2) | DB160071 DB160072 | 4/19/2016 4/19/2016
|  | Chief of Staff | DB160073 | 4/19/2016
| Office of the Secretary | Director of Strategic Initiatives | DB160075 | 4/26/2016
| Office of Legislation and Congressional Affairs | Deputy Assistant Secretary for Legislative Affairs | DB160076 | 4/29/2016
|  | Principal Advisor for Legislative Affairs | DB160077 | 4/29/2016
| Office of Career Technical and Adult Education | Special Assistant | DB160083 | 4/29/2016
DEPARTMENT OF ENERGY | Office of Assistant Secretary for Congressional and Intergovernmental Affairs | Special Advisor | DE160062 | 4/14/2016
| Office of Public Affairs | Deputy Press Secretary | DE160080 | 4/18/2016
GENERAL SERVICES ADMINISTRATION | Office of Communications and Marketing | Press Secretary | GS160021 | 4/22/2016
| Office of the Administrator | Special Assistant | GS160022 | 4/25/2016
DEPARTMENT OF HEALTH AND HUMAN SERVICES | Office of the Secretary | Director of Advance Confidential Assistant | DH160117 DH160112 | 4/19/2016 4/22/2016
| Office of Health Reform | Policy Advisor | DH160118 | 4/19/2016
| National Institutes of Health | Senior Director of External Partnerships | DH160115 | 4/25/2016
|  | Director for Patient Engagement | DH160116 | 4/25/2016
DEPARTMENT OF HOMELAND SECURITY | Office of the Assistant Secretary for Intergovernmental Affairs | Chief of Staff Senior Advisor | DM160190 DM160227 | 4/1/2016 4/19/2016
| United States Immigration and Customs Enforcement | Special Assistant | DM160191 | 4/1/2016
| Office of Assistant Secretary for Legislative Affairs | Director of Legislative and Congressional Affairs | DM160176 | 4/8/2016
| United States Citizenship and Immigration Services | Special Assistant | DM160197 | 4/13/2016
| Office of the Assistant Secretary for Policy | Policy Advisor | DM160222 | 4/14/2016
| Office of the Chief of Staff | Senior Advance Officer | DM160223 | 4/14/2016
|  | Counselor | DM160235 | 4/22/2016
| Office of the Assistant Secretary for Public Affairs | Assistant Press Secretary Director of Strategic Engagement | DM160224 DM160184 | 4/14/2016 4/15/2016
| Transportation Security Administration | Senior Advisor | DM160228 | 4/26/2016
DEPARTMENT OF HOUSING AND URBAN DEVELOPMENT | Office of Public Affairs Office of Policy Development and Research | Senior Advisor for Public Engagement Special Advisor | DU160026 DU160022 | 4/14/2016 4/19/2016
| Office of the Secretary | Special Advisor | DU160023 | 4/29/2016
DEPARTMENT OF THE INTERIOR | Office of Congressional and Legislative Affairs | Counsel Deputy Director Office of Congressional and Legislative Affairs | DI160052 DI160057 | 4/6/2016 4/15/2016
DEPARTMENT OF JUSTICE | Office of Justice Programs | Senior Policy Advisor | DJ160070 | 4/1/2016
| Office of the Deputy Attorney General | Special Assistant | DJ160094 | 4/29/2016
DEPARTMENT OF LABOR | Office of the Secretary | Advisor for Worker Voice Engagement | DL160061 | 4/1/2016
|  | Senior Policy Advisor | DL160066 | 4/13/2016
|  | Deputy Chief of Staff | DL160070 | 4/18/2016
|  | Policy Advisor | DL160062 | 4/25/2016
|  | Deputy Director of Scheduling and Advance | DL160081 | 4/25/2016
| Office of Congressional and Intergovernmental Affairs | Senior Legislative Officer (2) | DL160064 DL160065 | 4/8/2016 4/8/2016
| Employee Benefits Security Administration | Chief of Staff | DL160080 | 4/25/2016
| Mine Safety and Health Administration | Senior Advisor | DL160082 | 4/25/2016
NATIONAL AERONAUTICS AND SPACE ADMINISTRATION | Office of Communications | Media Relations Specialist | NN160069 | 4/28/2016
NATIONAL TRANSPORTATION SAFETY BOARD | Office of Board Members | Confidential Assistant | TB160003 | 4/13/2016
OFFICE OF MANAGEMENT AND BUDGET | Office of Education, Income Maintenance and Labor | Confidential Assistant | BO160035 | 4/14/2016
OFFICE OF NATIONAL DRUG CONTROL POLICY | Office of Legislative Affairs | Legislative Analyst | QQ160002 | 4/19/2016
OFFICE OF PERSONNEL MANAGEMENT | Office of the Director | Executive Assistant (2) | PM160021 PM160025 | 4/15/2016 4/18/2016
SMALL BUSINESS ADMINISTRATION | Office of Field Operations | Senior Advisor | SB160021 | 4/1/2016
| Office of the Administrator | Special Assistant | SB160019 | 4/4/2016
| Office of Native American Affairs | Assistant Administrator for Native American Affairs | SB160022 | 4/6/2016
| Office of the Administrator | Senior Advisor | SB160025 | 4/28/2016
DEPARTMENT OF STATE | Office of the Secretary | Special Assistant | DS160062 | 4/6/2016
| Foreign Policy Planning Staff | Senior Advisor | DS160081 | 4/14/2016
|  | Staff Assistant | DS160085 | 4/18/2016
| Office of the Global Women's Issues | Staff Assistant | DS160084 | 4/18/2016
| Office of the Under Secretary for Public Diplomacy and Public Affairs | Senior Advisor | DS160082 | 4/21/2016
| Office of the Chief of Protocol | Public Affairs Specialist | DS160087 | 4/25/2016
| Bureau of Public Affairs | Public Affairs Specialist | DS160088 | 4/28/2016
DEPARTMENT OF TRANSPORTATION | Office of the Assistant Secretary for Governmental Affairs | Associate Director for Governmental Affairs | DT160042 | 4/1/2016
| Office of the Administrator | Special Advisor | DT160046 | 4/1/2016
| Office of Public Affairs | Deputy Director for Public Affairs | DT160049 | 4/12/2016
|  | Press Secretary | DT160062 | 4/28/2016
| Office of the Assistant Secretary for Aviation and International Affairs | Policy Advisor | DT160050 | 4/15/2016
| Office of the Assistant Secretary for Transportation Policy | Senior Policy Advisor | DT160060 | 4/15/2016
DEPARTMENT OF THE TREASURY | Office of the Secretary of the Treasury | Associate Director (2) | DY160079 DY160081 | 4/21/2016 4/21/2016
|  | Deputy White House Liaison | DY160082 | 4/22/2016
| Office of the Assistant Secretary (Legislative Affairs) | Special Assistant | DY160080 | 4/21/2016
| Office of the Assistant Secretary (Public Affairs) | Senior Advisor | DY160078 | 4/25/2016
| Office of the Under Secretary for International Affairs | Senior Advisor | DY160085 | 4/26/2016
DEPARTMENT OF VETERANS AFFAIRS | Office of Public Affairs | Special Advisor | DV160033 | 4/6/2016
| Office of the Assistant Secretary for Government Relations | Special Assistant | DV160039 | 4/22/2016

The following Schedule C appointing authorities were revoked during April 2016.

Agency name | Organization name | Position title | Request No. | Date vacated
DEPARTMENT OF AGRICULTURE | Office of the Under Secretary for Food Safety | Chief of Staff | DA150164 | 04/02/2016
| Office of Communications | Director of Risk Management | DA130069 | 04/16/2016
| Office of the Under Secretary for Rural Development | Confidential Assistant Senior Advisor | DA100122 DA150119 | 04/16/2016 04/16/2016
DEPARTMENT OF COMMERCE | Economics and Statistics Administration | Press Secretary | DC150171 | 04/01/2016
| Office of Business Liaison | Special Advisor | DC150027 | 04/01/2016
| Economic Development Administration | Director of Outreach | DC100008 | 04/16/2016
| Office of White House Liaison | Special Assistant | DC150034 | 04/16/2016
| Office of the Under Secretary | Special Advisor | DC150095 | 04/22/2016
CONSUMER PRODUCT SAFETY COMMISSION | Office of Commissioners | Executive Assistant | PS090011 | 04/03/2016
OFFICE OF THE SECRETARY OF DEFENSE | Office of the Secretary | Special Assistant to the White House Liaison | DD160004 | 04/09/2016
| Office of the Assistant Secretary of Defense (Special Operation/Low Intensity Conflict and Interdependent Capabilities) | Principal Director for Special Operations and Combating Terrorism | DD140057 | 04/16/2016
| Washington Headquarters Services | Defense Fellow | DD140023 | 04/16/2016
| Office of the Assistant Secretary of Defense (Legislative Affairs) | Special Assistant to the ASD (Legislative Affairs) (Chief Policy) | DD150045 | 04/30/2016
DEPARTMENT OF EDUCATION | Office of Career Technical and Adult Education | Special Assistant | DB150044 | 04/02/2016
| Office for Civil Rights | Confidential Assistant | DB150017 | 04/03/2016
| Office of Planning, Evaluation and Policy Development | Policy Advisor | DB150104 | 04/16/2016
| Office of Elementary and Secondary Education | Special Assistant | DB140059 | 04/18/2016
| Office of the Secretary | Special Advisor for Strategy and Planning | DB150010 | 04/20/2016
ENVIRONMENTAL PROTECTION AGENCY | Office of the Administrator | Deputy Press Secretary | EP140021 | 04/02/2016
EXPORT-IMPORT BANK | Office of the Chairman | Project Manager and Executive Assistant to the Chairman | EB160001 | 04/12/2016
DEPARTMENT OF HEALTH AND HUMAN SERVICES | Office of Health Reform | Director of Outreach (Office of Health Reform) | DH150024 | 04/08/2016
DEPARTMENT OF HOMELAND SECURITY | Office of the Assistant Secretary for Intergovernmental Affairs | Chief of Staff | DM150061 | 04/02/2016
| Office of the Assistant Secretary for Intergovernmental Affairs | Intergovernmental Affairs Coordinator | DM150024 | 04/02/2016
| Office of the Executive Secretariat | Deputy Secretary Briefing Book Coordinator | DM160101 | 04/02/2016
|  | Special Assistant to the Executive Secretary | DM160108 | 04/02/2016
| United States Citizenship and Immigration Services | Special Assistant | DM140148 | 04/02/2016
| United States Immigration and Customs Enforcement | Special Assistant (2) | DM150034 DM150067 | 04/02/2016 04/02/2016
| Office of the Assistant Secretary for Intergovernmental Affairs | Senior Director | DM150026 | 04/16/2016
| Office of the Assistant Secretary for Policy | Special Assistant | DM150053 | 04/16/2016
| Office of the Assistant Secretary for Public Affairs | Assistant Press Secretary | DM140235 | 04/16/2016
| Office of the Chief of Staff | Advance Officer | DM160033 | 04/16/2016
| Office of the Under Secretary for Management | Senior Advisor | DM120034 | 04/16/2016
| Office of the General Counsel | Counselor to the General Counsel | DM140183 | 04/23/2016
DEPARTMENT OF HOUSING AND URBAN DEVELOPMENT | Office of Fair Housing and Equal Opportunity | Special Policy Advisor | DU150066 | 04/02/2016
| Office of Public Affairs | Deputy Press Secretary | DU150015 | 04/02/2016
DEPARTMENT OF JUSTICE | Executive Office for United States Attorneys | Senior Counsel | DJ150097 | 04/02/2016
| Office of the Associate Attorney General | Senior Counsel | DJ130076 | 04/03/2016
| Office of the Attorney General | Deputy White House Liaison | DJ150090 | 04/15/2016
| Office of Legal Policy | Senior Counsel | DJ140115 | 04/19/2016
DEPARTMENT OF LABOR | Employee Benefits Security Administration | Senior Advisor | DL120036 | 04/30/2016
| Office of Congressional and Intergovernmental Affairs | Chief of Staff | DL160020 | 04/30/2016
| Office of the Secretary | Senior Advisor | DL140044 | 04/30/2016
|  | Special Advisor | DL150045 | 04/30/2016
|  | Special Assistant | DL150046 | 04/30/2016
NATIONAL CREDIT UNION ADMINISTRATION | Office of the Board | Chief of Staff | CU100001 | 04/29/2016
OFFICE OF PERSONNEL MANAGEMENT | Office of the General Counsel | Senior Counsel | PM150020 | 04/02/2016
OVERSEAS PRIVATE INVESTMENT CORPORATION | Office of the President and Chief Executive Officer | Senior Advisor Deputy Chief of Staff | PQ140010 PQ140009 | 04/02/2016 04/16/2016
DEPARTMENT OF STATE | Office of the Chief of Protocol | Public Affairs Specialist | DS150004 | 04/30/2016
DEPARTMENT OF TRANSPORTATION | Assistant Secretary for Aviation and International Affairs | Special Assistant | DT140061 | 04/16/2016
| Assistant Secretary for Transportation Policy | Policy Advisor | DT150060 | 04/16/2016
| Public Affairs | Press Secretary | DT150076 | 04/16/2016

Authority: 5 U.S.C. 3301 and 3302; E.O. 10577, 3 CFR, 1954-1958 Comp., p. 218.

U.S. Office of Personnel Management.
Beth F. Cobert,
Acting Director.

[FR Doc. 2016-29129 Filed 12-2-16; 8:45 am]

BILLING CODE 6325-39-P